DEPARTMENT OF HEALTH AND HUMAN SERVICES

Centers for Medicare & Medicaid Services

42 CFR Part 411

[CMS-1163-F]

RIN 0938-AK47

Medicare Program; Prospective Payment System and Consolidated Billing for Skilled Nursing Facilities-Update; Final Rule

Correction

In rule document 01-18869, beginning on page 39562, in the issue of Tuesday, July 31, 2001, make the following correction:

§411.15 [Corrected]

On page 39600, in the first column, §411.15(p)(2)(i) should read, “Physicians' services that meet the criteria of §415.102 of this chapter for payment on a fee schedule basis.

* * * * *”

[FR Doc. C1-18869 Filed 9-14-01; 8:45 am]

BILLING CODE 1505-01-D